DEPARTMENT OF ENERGY

Federal Energy Regulatory Commission

[Docket Nos. CP02-142-002 and CP01-260-002]

Columbia Gas Transmission Corporation; Notice of Compliance Filing

April 1, 2003.

Take notice that on March 27, 2003, Columbia Gas Transmission Corporation (Columbia) tendered for filing to its FERC Gas Tariff, Second Revised Volume No. 1, Fourth Revised Sheet No. 500B, bearing a proposed effective date of May 1, 2003.

On December 20, 2002, the Commission issued an Order Issuing Certificate, Granting Abandonment Authority, and Vacating Certificate in the above-referenced proceedings (the Certificate Order). In this order, Columbia was directed to file the project executed service agreements and a revised tariff sheet adding its project service agreements to its list of non-conforming service agreements in its tariff. In this filing, Columbia is submitting the two long-term service agreements approved by the Certificate Order, subject to the revisions directed by the Certificate Order.

In addition, Columbia is submitting two short-term or interim service agreements for service to the same customers to precede the start date of the long-term service agreements, based on the customers' request for service at the earliest possible date. These two short-term or interim agreements are non-conforming and being submitted for the Commission's approval. Thus, Columbia is submitting Service Agreement Nos. 75239, 75240, 75241, and 75242 and Fourth Revised Sheet No. 500B listing all four project service agreements as non-conforming in compliance with the Certificate Order.

Columbia states that copies of its filing have been mailed to all firm customers, interruptible customers, and affected state commissions.

Any person desiring to protest said filing should file a protest with the Federal Energy Regulatory Commission, 888 First Street, NE., Washington, DC 20426, in accordance with Section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 22, 2003.

Magalie R. Salas,
Secretary.

[FR Doc. 03-8453 Filed 4-7-03; 8:45 am]

BILLING CODE 6717-01-P